DEPARTMENT OF JUSTICE

Parole Commission

Sunshine Act Public Announcement Pursuant to the Government in the Sunshine Act (Pub. L. 94-409) (5 U.S.C. 552b)

AGENCY HOLDING MEETING: Department of Justice, United States Parole Commission.

ACTION: Notice; correction.

SUMMARY: The U.S. Parole Commission published a document in the Federal Register of June 29, 2005, concerning an open meeting to be held on Tuesday, July 5, 2005. The document provides a correction as to the date of the meeting.

FOR FURTHER INFORMATION CONTACT: Thomas W. Hutchison, Chief of Staff, United States Parole Commission, (301) 492-5990.

Correction

In the Federal Register of June 29, 2005, in FR Doc 05-12890, on pages 37433-37434, correct the TIME AND DATE caption to read:

TIME AND DATE: 2:30 p.m., Monday, July 28, 2005.

Dated: July 1, 2005.
Pamela A. Posch,
Assistant General Counsel, U.S. Parole Commission.

[FR Doc. 05-13424 Filed 7-5-05; 11:01 am]

BILLING CODE 4410-31-M